COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds service(s) to the Procurement List that will be furnished by nonprofit agencies employing persons who are blind or have other severe disabilities, and deletes product(s) and service(s) from the Procurement List previously furnished by such agencies.

DATES: Date added to and deleted from the Procurement List: February 15, 2026.

ADDRESSES: Committee for Purchase From People Who Are Blind or Severely Disabled, 355 E Street SW, Suite 325, Washington DC, 20024.

FOR FURTHER INFORMATION CONTACT: For further information or to submit comments contact: Michael R. Jurkowski, Telephone: (703) 489-1322, or email CMTEFedReg@AbilityOne.gov.

SUPPLEMENTARY INFORMATION:

Addition

On December 11, 2025, the Committee for Purchase From People Who Are Blind or Severely Disabled (operating as the U.S. AbilityOne Commission) published an initial notice of proposed additions to the Procurement List. (90 FR 57452). This final notice is published pursuant to 41 U.S.C. 8503(a)(2) and 41 CFR 51-2.3. The Committee has determined that the product(s) listed below is suitable for procurement by the Federal Government and has added this product(s) to the Procurement List as a mandatory purchase for Federal entities. In accordance with 41 CFR 51-5.2, the Committee has authorized the qualified nonprofit agencies described with the product(s) as the authorized source(s) of supply.

After consideration of the material presented to it concerning capability of qualified nonprofit agencies to provide the product(s) and impact of the additions on the current or most recent contractors, the Committee has determined that the product(s) listed below are suitable for procurement by the Federal Government under 41 U.S.C. 8501-8506 and 41 CFR 51-2.4.

Regulatory Flexibility Act Certification

End of Certification

1. The action will not result in additional reporting, recordkeeping or other compliance requirements for small entities.

2. The action may result in authorizing small entities to furnish the product(s) to the Government.

3. There are no known regulatory alternatives which would accomplish the objectives of the Javits-Wagner-O'Day Act (41 U.S.C. 8501-8506) in connection with the product(s) added to the Procurement List.

End of Certification

Accordingly, the following product(s) are added to the Procurement List:

Product(s)

NSN(s)—Product Name(s): 5180-00-650-7821—Kit, Electrician's Tool, Quick Change, 23 PC

Authorized Source of Supply: Industries for the Blind and Visually Impaired, Inc., West Allis, WI

Mandatory For: Total Government Requirement

Contracting Activity: GENERAL SERVICES ADMINISTRATION, GSA/FSS GREATER SOUTHWEST ACQUISITI

Deletion

On December 11, 2025, the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

7920-01-215-6569—Cloth, Synthetic Shammy, Orange, 20′ x 23′

Mandatory For: Total Government Requirement

Contracting Activity: DEPT OF VETERANS AFFAIRS, STRATEGIC ACQUISITION CENTER

Contracting Activity: GENERAL SERVICES ADMINISTRATION, GSA/FSS GREATER SOUTHWEST ACQUISITI

Service(s)

Service Type: Warehouse and Distribution Service

Mandatory for: National Institutes of Health, Information Resource Center, Rockville, MD, 6001 Executive Boulevard, Rockville, MD

Authorized Source of Supply: The ARC of the District of Columbia, Inc., Washington, DC

Contracting Activity: HEALTH AND HUMAN SERVICES, DEPARTMENT OF, NATIONAL INSTITUTES OF HEALTH NIDA

Service Type: Laundry Service

Mandatory for: US Coast Guard, US Coast Guard Base Portsmouth, Portsmouth, VA, 4000 Coast Guard Blvd., Portsmouth, VA

Authorized Source of Supply: Louise W. Eggleston Center, Inc., Norfolk, VA

Contracting Activity: DEPT OF HOMELAND SECURITY, BASE PORTSMOUTH(00027)

Service Type: Multi-Function Support Services

Mandatory for: US Army Corps of Engineers, Marine Corps Reserve Center, St. Paul, MN, 6400 Bloomington Road, St. Paul, MN

Authorized Source of Supply: AccessAbility, Inc., Minneapolis, MN

Contracting Activity: DEPT OF DEFENSE, W074 ENDIST CHARLESTON

Michael R. Jurkowski,
Director, Business Operations.

[FR Doc. 2026-00655 Filed 1-14-26; 8:45 am]

BILLING CODE 6353-01-P